DEPARTMENT OF TRANSPORTATION

Federal Aviation Administration

14 CFR Part 39

[Docket No. FAA-2023-1805; Project Identifier AD-2023-00019-T; Amendment 39-22695; AD 2024-05-04]

RIN 2120-AA64

Airworthiness Directives; Gulfstream Aerospace Corporation Airplanes

AGENCY: Federal Aviation Administration (FAA), DOT.

ACTION: Final rule.

SUMMARY: The FAA is superseding Airworthiness Directive (AD) 2020-23-04, which applied to certain Gulfstream Aerospace Corporation Model GVII-G500 and GVII-G600 airplanes. AD 2020-23-04 required revising the existing airplane flight manual (AFM) and airplane maintenance manual (AMM) to include information pertaining to the fuel boost pump. This AD was prompted by a report of misassembled impellers on the shaft of the fuel boost pump during production. This AD retains the requirements of AD 2020-23-04 and requires inspecting affected fuel boost pumps for proper installation of the impeller shaft key, marking affected fuel boost pumps that pass that inspection, and replacing fuel boost pumps that fail. This AD also limits the installation of affected fuel boost pumps. The FAA is issuing this AD to address the unsafe condition on these products.

DATES: This AD is effective May 2, 2024.

The Director of the Federal Register approved the incorporation by reference of certain publications listed in this AD as of May 2, 2024.

The Director of the Federal Register approved the incorporation by reference of certain other publications listed in this AD as of November 24, 2020 (85 FR 71232, November 9, 2020).

ADDRESSES:

AD Docket: You may examine the AD docket at regulations.gov under Docket No. FAA-2023-1805; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For service information identified in this final rule, contact Gulfstream Aerospace Corporation, Technical Publications Dept., P.O. Box 2206, Savannah, GA 31402-2206; telephone 800-810-4853; email pubs@gulfstream.com; website gulfstream.com/en/customer-support.

• You may view this service information at the FAA, Airworthiness Products Section, Operational Safety Branch, 2200 South 216th St., Des Moines, WA. For information on the availability of this material at the FAA, call 206-231-3195. It is also available at regulations.gov under Docket No. FAA-2023-1805.

FOR FURTHER INFORMATION CONTACT: Jared Meyer, Aviation Safety Engineer, FAA, 1701 Columbia Avenue, College Park, GA 30337; phone: 404-474-5534; email: 9-ASO-ATLACO-ADs@faa.gov.

SUPPLEMENTARY INFORMATION:

Background

The FAA issued a notice of proposed rulemaking (NPRM) to amend 14 CFR part 39 to supersede AD 2020-23-04, Amendment 39-21320 (85 FR 71232, November 9, 2020) (AD 2020-23-04). AD 2020-23-04 applied to certain Gulfstream Aerospace Corporation Model GVII-G500 and GVII-G600 airplanes. The NPRM published in the Federal Register on September 5, 2023 (88 FR 60606). The NPRM was prompted by a report of misassembled impellers on the shaft of the fuel boost pump during production. In the NPRM, the FAA proposed to continue to require revising the existing AFM and AMM to include information pertaining to the fuel boost pump. The NPRM also proposed to require inspecting affected fuel boost pumps for proper installation of the impeller shaft key, marking affected fuel boost pumps that pass that inspection, and replacing fuel boost pumps that fail. The NPRM also proposed to limit installation of affected fuel boost pumps. The FAA is issuing this AD to prevent the ignition of flammable vapors in the fuel tank as a result of frictional heating or sparks caused by a missing, misplaced, or dislodged impeller shaft key inside the fuel boost pump. The unsafe condition, if not addressed, could result in a potential source of ignition in the fuel tank and consequent fire or explosion.

Discussion of Final Airworthiness Directive

Comments

The FAA received a comment from an anonymous commenter who supported the NPRM without change.

The FAA received additional comments from Gulfstream Aerospace Corporation (Gulfstream). The following presents the comments received on the NPRM and the FAA's response to each comment.

Request To Change the Maintenance Manual Version

Gulfstream requested that the FAA change the maintenance manual revision dates specified in paragraph (g) of the proposed AD to refer to subsequent dates. Gulfstream stated that GVII-G600 Maintenance Manual 28-26-04 Fuel Boost Pump-Removal/Installation Procedure, dated August 31, 2020, was revised March 31, 2023, to include non-technical changes (including the use of puller tool to reduce risk of damage to Fuel Boost Pump (FBP) during removal with a caution note to avoid excess force when removing FBP and a step to record FBP serial number to determine serviceability). Gulfstream also stated that GVII-G500 Maintenance Manual 12-13-01 Defueling Procedure-Defuel, dated August 31, 2020, and GVII-G600 Maintenance Manual 12-13-01 Defueling Procedure-Defuel, dated August 31, 2020, were revised on September 30, 2023, due to an administrative error.

The FAA agrees with the request. The revised defueling procedure requested by Gulfstream is acceptable because it instructs fuel boost pump maintenance to be performed in a way that addresses the unsafe condition and it prevents damage to the parts being removed/installed. The FAA has revised paragraphs (g)(1)(i), (ii), (iii), and (v) of this AD accordingly.

Request To Change Paragraph (i) of the Proposed AD

Gulfstream requested that the compliance time in paragraph (i) of the proposed AD be revised from “replacing the pump before further flight” to “replacing the pump following the completion of the CB [customer bulletin] before further flight.” Gulfstream reported the statement “this AD requires replacing the pump before further flight in accordance with the requirements of paragraph (h) of this AD” in paragraph (i) of the proposed AD could be misleading. Gulfstream stated it believes this statement could be misunderstood by operators to mean that the AD immediately grounds their aircraft.

The FAA agrees with the commenter that paragraph (i) of this AD should be revised to clarify the intent of this AD. Operators have 24 months to comply with all applicable actions required by paragraph (h) of this AD. The FAA has revised paragraph (i) of this AD by removing the reference to “before further flight” and specifying that where the service information says to return a pump, this AD requires that the pump must be replaced.

Request for Removing GVII-G500 AFM

Gulfstream requested removing reference to “Gulfstream Aerospace GVII-G500 Airplane Flight Manual Supplement No. GVII-G500-2020-06, dated September 8, 2020,” from paragraph (g)(2)(ii) of the proposed AD; Gulfstream stated there are no GVII-G500 airplanes in this configuration, all aircraft have been updated to GVII Block 1 software configuration, therefore this reference to the airplane flight manual supplement is not applicable.

The FAA has confirmed with Gulfstream that Gulfstream Aerospace GVII-G500 Airplane Flight Manual Supplement No. GVII-G500-2020-06, dated September 8, 2020, is no longer applicable to the existing fleet. However, Gulfstream Aerospace GVII-G500 Airplane Flight Manual Supplement No. GVII-G500-2020-06, dated September 8, 2020, is retained in this AD. Operators may have previously complied with paragraph (g)(2)(ii) of AD 2020-23-04 using GVII-G500 Airplane Flight Manual Supplement No. GVII-G500-2020-06, dated September 8, 2020. Therefore, to provide credit to operators who have already complied with the service information and reduce the need for alternative method of compliance (AMOC) requests, the FAA has determined that this AD should include reference to GVII-G500 Airplane Flight Manual Supplement No. GVII-G500-2020-06, dated September 8, 2020. No changes have been made to this AD in this regard.

Conclusion

The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Related Service Information Under 1 CFR Part 51

The FAA reviewed Gulfstream GVII-G500 Customer Bulletin No. 069 and Gulfstream GVII-G600 Customer Bulletin No. 037, both Revision A, both dated February 2, 2023. This service information specifies procedures for inspecting affected fuel boost pumps for proper installation of the impeller shaft key, marking affected fuel boost pumps that pass that inspection, and replacing fuel boost pumps that fail. These documents are distinct since they apply to different airplane models.

The FAA also reviewed the following AMM documents, which contain revised maintenance procedures pertaining to the fuel boost pump. These documents are distinct since they apply to different airplane models.

• 12-13-01 Defueling Procedure-Defuel, 12-13 Fueling and Defueling Operations Replenishing, Chapter 12—Servicing, Gulfstream Aerospace GVII-G500 Aircraft Maintenance Manual, Document Number GAC-AC-GVII-G500-AMM-0001, Revision 16, dated November 30, 2023.

• 12-13-01 Defueling Procedure-Defuel, 12-13 Fueling and Defueling Operations Replenishing, Chapter 12—Servicing, Gulfstream Aerospace GVII-G600 Aircraft Maintenance Manual, Document Number GAC-AC-GVII-G600-AMM-0001, Revision 12, dated November 30, 2023.

• 28-26-04 Fuel Boost Pump-Prime, 28-26 Engine and APU Fuel Delivery, Chapter 28—Fuel, Gulfstream Aerospace GVII-G500 Aircraft Maintenance Manual, Document Number GAC-AC-GVII-G500-AMM-0001, Revision 16, dated November 30, 2023.

• 28-26-04 Fuel Boost Pump-Removal/Installation, 28-26 Engine and APU Fuel Delivery, Chapter 28—Fuel, Gulfstream Aerospace GVII-G600 Aircraft Maintenance Manual, Document Number GAC-AC-GVII-G600-AMM-0001, Revision 12, dated November 30, 2023.

This AD also requires the following Gulfstream service information, which the Director of the Federal Register approved for incorporation by reference as of November 24, 2020 (85 FR 71232, November 8, 2020). (Although the maintenance manual documents have the watermarked words “advance copy” on each page of the document, these are not advance draft copies but final versions of temporary revisions to the AMM, pending incorporation into the AMM at the next revision.)

• Gulfstream Aerospace GVII-G500 Airplane Flight Manual Supplement No. GVII-G500 (Issue 1)—2020-05, dated September 8, 2020.

• Gulfstream Aerospace GVII-G500 Airplane Flight Manual Supplement No. GVII-G500-2020-06, dated September 8, 2020.

• Gulfstream Aerospace GVII-G600 Airplane Flight Manual Supplement No. GVII-G600-2020-06 dated September 8, 2020.

• GVII-G500 Maintenance Manual 12-13-01 Defueling Procedure-Defuel, dated August 31, 2020.

• GVII-G500 Maintenance Manual 28-26-04 Fuel Boost Pump-Prime, dated August 31, 2020.

• GVII-G600 Maintenance Manual 12-13-01 Defueling Procedure-Defuel, dated August 31, 2020.

• GVII-G600 Maintenance Manual 28-26-04 Fuel Boost Pump-Prime, dated August 31, 2020.

• GVII-G600 Maintenance Manual 28-26-04 Fuel Boost Pump-Removal/Installation, dated August 31, 2020.

• GVII-G600 Maintenance Manual 28-26-05 Fuel Boost Pump Canister-Removal/Installation, dated August 31, 2020.

This service information is reasonably available because the interested parties have access to it through their normal course of business or by the means identified in ADDRESSES.

Costs of Compliance

The FAA estimates that this AD affects 89 airplanes of U.S. registry. The FAA estimates the following costs to comply with this AD:

Estimated Costs
Action | Labor cost | Parts cost | Cost per product | Cost on U.S. operators
Incorporate information into AMM and AFM (retained actions from AD 2020-23-04) | 2 work-hours × $85 per hour = $170 | $0 | $170 | $15,130
Impeller shaft key inspection (new action) | 36 work-hours × $85 per hour = $3,060 | 0 | 3,060 | 272,340

The FAA estimates the following costs to do any necessary part marking and fuel boost pump replacements that would be required based on the results of the inspection for proper installation. The FAA has no way of determining the number of aircraft that might need these actions:

On-Condition Costs
Action | Labor cost | Parts cost | Cost per product
Part marking | 0.5 work-hour × $85 per hour = $42.50 | $10 | $52.50
Fuel pump replacement (per fuel boost pump) | 10 work-hours × $85 per hour = $850 | 106,706 | 107,556

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2020-23-04, Amendment 39-21320 (85 FR 71232, November 9, 2020); and

b. Adding the following new AD:

2024-05-04 Gulfstream Aerospace Corporation: Amendment 39-22695; Docket No. FAA-2023-1805; Project Identifier AD-2023-00019-T.

(a) Effective Date

This airworthiness directive (AD) is effective May 2, 2024.

(b) Affected ADs

This AD replaces AD 2020-23-04, Amendment 39-21320 (85 FR 71232, November 9, 2020) (AD 2020-23-04).

(c) Applicability

This AD applies to the Gulfstream Aerospace Corporation airplanes, certificated in any category, identified in paragraphs (c)(1) and (2) of this AD.

(1) Model GVII-G500 airplanes, serial numbers (S/Ns) 72001 and subsequent.

(2) Model GVII-G600 airplanes, S/Ns 73001 and subsequent.

(d) Subject

Air Transport Association (ATA) of America Code 2822, Fuel Boost Pump.

(e) Unsafe Condition

This AD was prompted by a report of misassembled impellers onto the shaft of the fuel boost pump during production. The FAA is issuing this AD to prevent the ignition of flammable vapors in the fuel tank as a result of frictional heating or sparks caused by a missing, misplaced, or dislodged impeller shaft key inside the fuel boost pump. The unsafe condition, if not addressed, could result in a potential source of ignition in the fuel tank and consequent fire or explosion.

(f) Compliance

Comply with this AD within the compliance times specified, unless already done.

(g) Retained Manual Updates, With Updated Service Information

This paragraph restates the requirements of paragraph (g) of AD 2020-23-04, with updated service information. For Model GVII-G500 airplane S/Ns 72001 and 72007 through 72062 inclusive; and Model GVII-G600 airplane S/Ns 73002, 73004, 73006 through 73040 inclusive, 73042, and 73043: Within 14 days after November 24, 2020 (the effective date of AD 2020-23-04), do the actions in paragraphs (g)(1) through (3) of this AD, as applicable.

(1) Revise your existing airplane maintenance manual (AMM) by replacing the procedures listed in paragraphs (g)(1)(i) through (vi) of this AD, as applicable for your model airplane.

(i) GVII-G500 Maintenance Manual 12-13-01 Defueling Procedure-Defuel, dated August 31, 2020; or 12-13-01 Defueling Procedure-Defuel, 12-13 Fueling and Defueling Operations Replenishing, Chapter 12—Servicing, Gulfstream Aerospace GVII-G500 Aircraft Maintenance Manual, Document Number GAC-AC-GVII-G500-AMM-0001, Revision 16, dated November 30, 2023.

(ii) GVII-G500 Maintenance Manual 28-26-04 Fuel Boost Pump-Prime, dated August 31, 2020; or 28-26-04 Fuel Boost Pump-Prime, 28-26 Engine and APU Fuel Delivery, Chapter 28—Fuel, Gulfstream Aerospace GVII-G500 Aircraft Maintenance Manual, Document Number GAC-AC-GVII-G500-AMM-0001, Revision 16, dated November 30, 2023.

(iii) GVII-G600 Maintenance Manual 12-13-01 Defueling Procedure-Defuel, dated August 31, 2020; or 12-13-01 Defueling Procedure-Defuel, 12-13 Fueling and Defueling Operations Replenishing, Chapter 12—Servicing, Gulfstream Aerospace GVII-G600 Aircraft Maintenance Manual, Document Number GAC-AC-GVII-G600-AMM-0001, Revision 12, dated November 30, 2023.

(iv) GVII-G600 Maintenance Manual 28-26-04 Fuel Boost Pump-Prime, dated August 31, 2020.

(v) GVII-G600 Maintenance Manual 28-26-04 Fuel Boost Pump-Removal/Installation, dated August 31, 2020; or 28-26-04 Fuel Boost Pump-Removal/Installation, 28-26 Engine and APU Fuel Delivery, Chapter 28—Fuel, Gulfstream Aerospace GVII-G600 Aircraft Maintenance Manual, Document Number GAC-AC-GVII-G600-AMM-0001, Revision 12, dated November 30, 2023.

(vi) GVII-G600 Maintenance Manual 28-26-05 Fuel Boost Pump Canister-Removal/Installation, dated August 31, 2020.

(2) Revise your existing airplane flight manual (AFM) by including in the AFM the airplane flight manual supplement (AFMS) listed in paragraph (g)(2)(i), (ii), or (iii) of this AD that is applicable to your model airplane. Using a later AFM revision with information identical to that contained in the AFMS specified for your airplane is acceptable for compliance with the requirement of this paragraph.

(i) Gulfstream Aerospace GVII-G500 Airplane Flight Manual Supplement No. GVII-G500 (Issue 1)—2020-05, dated September 8, 2020; or

(ii) Gulfstream Aerospace GVII-G500 Airplane Flight Manual Supplement No. GVII-G500-2020-06, dated September 8, 2020; or

(iii) Gulfstream Aerospace GVII-G600 Airplane Flight Manual Supplement No. GVII-G600-2020-06, dated September 8, 2020.

(3) The action required by paragraph (g)(2) of this AD may be performed by the owner/operator (pilot) holding at least a private pilot certificate and must be entered into the aircraft records showing compliance with this AD in accordance with 14 CFR 43.9(a)(1) through (4), and 14 CFR 91.417(a)(2)(v). The record must be maintained as required by 14 CFR 91.417, 121.380, or 135.439.

(h) New Requirements

For Model GVII-G500 airplane S/Ns 72001 and 72007 through 72062 inclusive; and Model GVII-G600 airplane S/Ns 73002, 73004, 73006 through 73040 inclusive, 73042, and 73043: Except as specified in paragraph (i) of this AD, within 24 months after the effective date of this AD, do all actions specified in paragraph III.D. and all applicable actions identified as “RC” (required for compliance) in, and in accordance with, the Accomplishment Instructions of Gulfstream GVII-G500 Customer Bulletin No. 069 or Gulfstream GVII-G600 Customer Bulletin No. 037, both Revision A, both dated February 2, 2023, as applicable.

Note 1 to paragraph (h): The serial number on the aft exterior of the pump is not the pump serial number.

Note 2 to paragraph (h): Guidance on pump removal and installation procedures can be found in Gulfstream Aerospace GVII-G500 Aircraft Maintenance Manual, Document Number GAC-AC-GVII-G500-AMM-0001, Revision 12, dated June 15, 2022; and Gulfstream Aerospace GVII-G600 Aircraft Maintenance Manual, Document Number GAC-AC-GVII-G600-AMM-0001, Revision 8, dated June 15, 2022.

(i) Service Information Exception

Where Gulfstream GVII-G500 Customer Bulletin No. 069 and Gulfstream GVII-G600 Customer Bulletin No. 037, both Revision A, both dated February 2, 2023, specify to return any pump for repair, this AD requires replacing the pump in accordance with the applicable service information identified in paragraph (h) of this AD.

(j) Terminating Action for Paragraph (g) of This AD

The requirements of paragraph (g) of this AD are terminated if all applicable actions required by paragraph (h) of this AD have been accomplished.

(k) Parts Installation Limitation

As of the effective date of the AD, no person may install on any airplane a fuel boost pump having a part and serial number specified in Table 1 of Gulfstream GVII-G500 Customer Bulletin No. 069 or Gulfstream GVII-G600 Customer Bulletin No. 037, both Revision A, both dated February 2, 2023, as applicable, unless that pump is marked with the letter “C” to the right of the “INSP” legend on the pump data area.

(l) Credit for Previous Actions

This paragraph provides credit for the actions specified in paragraph (h) of this AD, if those actions were performed before the effective date of this AD using the service information identified in paragraphs (l)(1) and (2) of this AD, as applicable. This service information is not incorporated by reference in this AD.

(1) Gulfstream GVII-G500 Customer Bulletin No. 069, dated October 19, 2022.

(2) Gulfstream GVII-G600 Customer Bulletin No. 037, dated October 19, 2022.

(m) Alternative Methods of Compliance (AMOCs)

(1) The Manager, East Certification Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (n)(1) of this AD.

(2) Before using any approved AMOC, notify your appropriate principal inspector, or lacking a principal inspector, the manager of the responsible Flight Standards Office.

(3) AMOCs approved for AD 2020-23-04 are approved as AMOCs for the corresponding provisions of this AD.

(4) For service information that contains steps that are labeled as Required for Compliance (RC), the provisions of paragraphs (m)(4)(i) and (ii) of this AD apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(n) Related Information

(1) For more information about this AD, contact Jared Meyer, Aviation Safety Engineer, FAA, 1701 Columbia Avenue, College Park, GA 30337; phone: 404-474-5534; email: 9-ASO-ATLACO-ADs@faa.gov.

(2) Service information identified in this AD that is not incorporated by reference is available at the address specified in paragraph (o)(5) of this AD.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on May 2, 2024.

(i) Gulfstream GVII-G500 Customer Bulletin No. 069, Revision A, dated February 2, 2023.

(ii) Gulfstream GVII-G600 Customer Bulletin No. 037, Revision A, dated February 2, 2023.

(iii) 12-13-01 Defueling Procedure-Defuel, 12-13 Fueling and Defueling Operations Replenishing, Chapter 12—Servicing, Gulfstream Aerospace GVII-G500 Aircraft Maintenance Manual, Document Number GAC-AC-GVII-G500-AMM-0001, Revision 16, dated November 30, 2023.

Note 3 to paragraph (o)(3)(iii): The manufacturer name is located only on the title page of the documents identified in paragraphs (o)(3)(iii) and (iv) of this AD.

(iv) 12-13-01 Defueling Procedure-Defuel, 12-13 Fueling and Defueling Operations Replenishing, Chapter 12—Servicing, Gulfstream Aerospace GVII-G600 Aircraft Maintenance Manual, Document Number GAC-AC-GVII-G600-AMM-0001, Revision 12, dated November 30, 2023.

(v) 28-26-04 Fuel Boost Pump-Prime, 28-26 Engine and APU Fuel Delivery, Chapter 28—Fuel, Gulfstream Aerospace GVII-G500 Aircraft Maintenance Manual, Document Number GAC-AC-GVII-G500-AMM-0001, Revision 16, dated November 30, 2023.

Note 4 to paragraph (o)(3)(v): The manufacturer name is located only on the title page of the documents identified in paragraphs (o)(3)(v) and (vi) of this AD.

(vi) 28-26-04 Fuel Boost Pump-Removal/Installation, 28-26 Engine and APU Fuel Delivery, Chapter 28—Fuel, Gulfstream Aerospace GVII-G600 Aircraft Maintenance Manual, Document Number GAC-AC-GVII-G600-AMM-0001, Revision 12, dated November 30, 2023.

(4) The following service information was approved for IBR on November 24, 2020 (85 FR 71232, November 9, 2020).

(i) Gulfstream Aerospace GVII-G500 Airplane Flight Manual Supplement No. GVII-G500 (Issue 1)—2020-05, dated September 8, 2020.

(ii) Gulfstream Aerospace GVII-G500 Airplane Flight Manual Supplement No. GVII-G500-2020-06, dated September 8, 2020.

(iii) Gulfstream Aerospace GVII-G600 Airplane Flight Manual Supplement No. GVII-G600-2020-06 dated September 8, 2020.

(iv) GVII-G500 Maintenance Manual 12-13-01 Defueling Procedure-Defuel, dated August 31, 2020.

Note 5 to paragraph (o)(4)(iv): Although the documents in paragraphs (o)(4)(iv) through (ix) have the watermarked words “advance copy” on each page of the document, these are not advance draft copies but final versions of temporary revisions to the AMM, pending incorporation into the AMM at the next revision.

(v) GVII-G500 Maintenance Manual 28-26-04 Fuel Boost Pump-Prime, dated August 31, 2020.

(vi) GVII-G600 Maintenance Manual 12-13-01 Defueling Procedure-Defuel, dated August 31, 2020.

(vii) GVII-G600 Maintenance Manual 28-26-04 Fuel Boost Pump-Prime, dated August 31, 2020.

(viii) GVII-G600 Maintenance Manual 28-26-04 Fuel Boost Pump-Removal/Installation, dated August 31, 2020.

(ix) GVII-G600 Maintenance Manual 28-26-05 Fuel Boost Pump Canister-Removal/Installation, dated August 31, 2020.

(5) For service information identified in this AD, contact Gulfstream Aerospace Corporation, Technical Publications Dept., P.O. Box 2206, Savannah, GA 31402-2206; telephone 800-810-4853; email pubs@gulfstream.com; website gulfstream.com/en/customer-support.

(6) You may view this service information at the FAA, Airworthiness Products Section, Operational Safety Branch, 2200 South 216th St., Des Moines, WA. For information on the availability of this material at the FAA, call 206-231-3195.

(7) You may view this material at the National Archives and Records Administration (NARA). For information on the availability of this material at NARA, visit www.archives.gov/federal-register/cfr/ibr-locations or email fr.inspection@nara.gov.

Issued on March 21, 2024.
Victor Wicklund,
Deputy Director, Compliance & Airworthiness Division, Aircraft Certification Service.

[FR Doc. 2024-06478 Filed 3-27-24; 8:45 am]

BILLING CODE 4910-13-P